GENERAL SERVICES ADMINISTRATION

Federal Travel Regulation; Notice of GSA Bulletin FTR 05-06

AGENCY: Office of Governmentwide Policy, General Services Administration (GSA).

ACTION: Notice of a bulletin.

SUMMARY: This notice announces Federal Travel Regulation (FTR) GSA Bulletin FTR 05-06. This Bulletin informs agencies that certain provisions of the FTR governing the authorization of actual subsistence expenses for official travel (both TDY and relocation) are temporarily waived as a result of Hurricane Katrina, because it is expected that finding lodging facilities and/or adequate meals may be difficult, and distances involved may be great resulting in increased costs for per diem expenses. GSA Bulletin FTR 05-06 may be found at www.gsa.gov/bulletins.

DATES: The bulletin announced in this notice is effective September 2, 2005.

FOR FURTHER INFORMATION CONTACT: For clarification of content, contact General Services Administration, Office of Governmentwide Policy, Office of Travel, Transportation and Asset Management, at (202) 501-1777. Please cite GSA Bulletin FTR 05-06.

SUPPLEMENTARY INFORMATION:

A. Background

As a result of the catastrophic destruction caused by Hurricane Katrina, agencies should consider delaying all non-essential TDY and relocation to the affected locations for a period of 90 days. This is especially important with relocation travel because the 120-day maximum for TQSE cannot be extended due to statutory restrictions. While in the past, GSA has limited application of such waivers to Presidentially Declared Disaster Areas, in the case of Hurricane Katrina, the widespread devastation coupled with the extensive evacuation of urban areas means that we cannot effectively determine the extent to which the ability to secure lodgings will be compromised. In this case, we are stating that each agency may determine whether this Bulletin applies to travel which is impacted by Hurricane Katrina.

B. Procedures

Bulletins regarding Federal travel vehicle management are located on the Internet at www.gsa.gov/bulletins as Federal Travel Regulation (FTR) bulletins.

Dated: September 2, 2005.
Thomas J. Horan,
Deputy Director.

[FR Doc. 05-18021 Filed 9-9-05; 8:45 am]

BILLING CODE 6820-14-S